ENVIRONMENTAL PROTECTION AGENCY

40 CFR Part 300

[FRL-7934-1]

National Oil and Hazardous Substances Pollution Contingency Plan; National Priorities List

AGENCY: Environmental Protection Agency.

ACTION: Direct Final Deletion of the Jones Sanitation Superfund Site from the National Priorities List.

SUMMARY: The Environmental Protection Agency (EPA), Region 2, announces the deletion of the Jones Sanitation Superfund Site (Site), located in Hyde Park, New York, from the National Priorities List (NPL) and will consider public comment on this action.

The NPL is Appendix B of the National Oil and Hazardous Substances Pollution Contingency Plan (NCP), 40 CFR Part 300, which EPA promulgated pursuant to Section 105 of the Comprehensive Environmental Response, Compensation, and Liability Act (CERCLA) of 1980, as amended. This Direct Final Notice of Deletion is being published by EPA with the concurrence of the State of New York, through the Department of Environmental Conservation (NYSDEC). EPA and NYSDEC have determined that potentially responsible parties have implemented all appropriate response actions required. Moreover, EPA and NYSDEC have determined that the Site poses no significant threat to public health or the environment.

DATES: This direct final deletion will be effective September 6, 2005 unless EPA receives significant adverse comments by August 8, 2005. If significant adverse comments are received, EPA will publish a timely withdrawal of this direct final deletion in the Federal Register, informing the public that the deletion will not take effect.

ADDRESSES: Comments may be mailed to: Isabel Rodrigues, Remedial Project Manager, Emergency and Remedial Response Division, U.S. Environmental Protection Agency, Region 2, 290 Broadway, 20th Floor, New York, New York 10007-1866.

Information Repositories: Comprehensive information about the Site is available for viewing and copying at the Site information repositories located at:

U.S. Environmental Protection Agency, Region 2, Superfund Records Center, 290 Broadway, Room 1828, New York, New York 10007-1866, (212) 637-4308, Hours: 9 a.m. to 5 p.m., Monday through Friday; By Appointment

and,

Hyde Park Free Public Library, 2 Main Street, Hyde Park, NY 12538, Hours: 9 a.m. to 8 p.m., Monday and Tuesday, 12 to 8 p.m., Wednesday and Thursday, 9 a.m. to 2 p.m., Saturday; By Appointment.

FOR FURTHER INFORMATION CONTACT: Ms. Isabel Rodrigues, Remedial Project Manager, U.S. EPA Region 2, 290 Broadway, 20th Floor, New York, New York 10007-1866, (212) 637-4248; Fax Number (212) 637-4284; Email address: Rodrigues.Isabel@EPA.GOV.

SUPPLEMENTARY INFORMATION:

Table of Contents

I. Introduction

II. NPL Deletion Criteria

III. Deletion Procedures

IV. Basis for Site Deletion

I. Introduction

EPA Region 2 announces the deletion of the Jones Sanitation Superfund Site from the NPL. The EPA maintains the NPL as the list of those sites that appear to present a significant risk to public health, welfare, or the environment. Sites on the NPL can have remedial actions financed by the Hazardous Substances Superfund Response Trust Fund.

EPA considers this action to be noncontroversial and routine, and therefore, EPA is taking it without prior publication of a Notice of Intent to Delete. This action will be effective September 6, 2005 unless EPA receives significant adverse comments by August 8, 2005 on this action or the parallel Notice of Intent to Delete published in the Notice section of today's Federal Register. If significant adverse comments are received within the 30-day public comment period, EPA Region 2 will publish a timely withdrawal of this Direct Final Deletion before the effective date of the deletion and the deletion will not take effect. EPA will, if appropriate, prepare a response to comments and continue with the deletion process on the basis of the Notice of Intent to Delete and the comments already received. There will be no additional opportunity to comment.

Section II explains the criteria for deleting sites from the NPL. Section III discusses procedures that EPA is using for this action. Section IV discusses the Jones Sanitation Superfund Site and demonstrates how it meets the deletion criteria.

II. NPL Deletion Criteria

Section 300.425(e) of the NCP provides that Sites may be deleted from the NPL where no further response is appropriate. In making this determination, EPA, in consultation with the state, shall consider whether any of the following criteria have been met:

i. Responsible parties or other parties have implemented all appropriate response actions required;

ii. All appropriate Fund-financed responses under CERCLA have been implemented, and no further action by responsible parties is appropriate; or

iii. The remedial investigation has shown that the release poses no significant threat to public health or the environment and, therefore, implementing remedial measures is not appropriate.

EPA proposes to delete this Site because potentially responsible parties have implemented all appropriate response actions. If new information becomes available which indicates a need for further action, EPA may initiate such actions based upon Section 300.425(e)(3) of the NCP. Pursuant to Section 300.425(e)(3) of the NCP, a site deleted from the NPL remains eligible for remedial actions if conditions at the Site warrant such action.

III. Deletion Procedures

The following procedures were used for the intended deletion of this Site:

(1) The Site was listed on the NPL in July 1987.

(2) In March 1991, Theodore Losee and Alfa-Laval, Inc., signed an Administrative Order on Consent with EPA in which they agreed to perform the Remedial Investigation/Feasibility Study (RI/FS) for the Site.

(3) The RI Report was completed in 1995, the FS Report in July 1996.

(4) On March 31, 1997, EPA issued a Record of Decision which selected a remedy for the Site which included engineered and institutional controls.

(5) On December 6, 2001, EPA determined that the engineered controls had been constructed.

(6) In September of 2004, institutional controls were recorded with the Dutchess County Register of Deeds.

(7) The EPA consulted with the NYSDEC on the deletion of this Site and NYSDEC concurred with the deletion of the Site from the NPL on March 1, 2005.

(8) Concurrently with the publication of this Direct Final Deletion, a parallel Notice of Intent to Delete has been published today in the Notice section of the Federal Register. Notices are also being published in local newspapers and appropriate notice is being provided to federal, state, and local government officials and other interested parties.

(9) The EPA placed copies of documents supporting the deletion in the Site information repositories identified above.

If no significant adverse comments are received, the Site will be deleted. If significant adverse comments are received within the 30-day public comment period on this action, EPA will publish a timely notice of withdrawal of this Deletion before its effective date. EPA will prepare, if appropriate, a response to comments and continue with the deletion process on the basis of the Notice of Intent to Delete and the comments already received.

Deletion of a site from the NPL does not itself create, alter, or revoke any individual's rights or obligations. Deletion of a site from the NPL does not in any way alter EPA's right to take appropriate enforcement actions. The NPL is the list of uncontrolled hazardous substances releases in the United States that are priorities for long-term remedial evaluation and response.

IV. Basis For Site Deletion

The following summary provides a brief description and history of the Jones Sanitation Superfund Site and provides the Agency's rationale for recommending deletion of the Site from the NPL.

The Jones Sanitation Site consists of a 57-acre parcel of land located approximately one-half mile northeast of the intersection of Crum Elbow Road and Cardinal Road in Hyde Park, New York. The Maritje Kill flows from the northeast to the southeast across the eastern side of the Site. Another unnamed stream enters the northern side of the Site, flows into wetlands on the northwestern side of the property, and flows off-site to the west. Freshwater wetlands surround the northern, southern, and western portions of the Site.

The majority of the property is heavily wooded, but a large cleared area exists in the western-central portion of the Site and extends to the northeast. The Site is zoned residential but the prior commercial use had been grandfathered.

For 30 years, septage wastes were treated and disposed at the Site from homes, businesses, institutions, and industrial facilities. For approximately 17 years, industrial wastewater was treated and disposed at the Site. Beginning in 1970, NYSDEC and Dutchess County Health Department conducted several investigations of the Site including sampling of on-site soils, groundwater, surface water, and stream sediments. Some off-site private and public wells were also sampled. Volatile organic compounds (VOCs), semi-volatile organic compounds, polynuclear aromatic hydrocarbon compounds, polychlorinated biphenols and metals were detected at varying concentrations in site media. Based on the results of these investigations, the Site was placed on the NPL in July 1987. At that time, EPA became the lead agency for the Site with support from the NYSDEC.

In March 1991, Theodore Losee and Alfa-Laval, Inc., signed an Administrative Order on Consent with EPA in which they agreed to perform the Remedial Investigation/Feasibility Study (RI/FS) for the Site. The RI Report was completed in 1995 and the FS Report in July 1996.

On March 31,1997, EPA issued a Record of Decision (ROD) which selected the following remedy: excavation of contaminated soils in outlying areas and placement of these soils in a central disposal area; construction of a cap over the central disposal area; implementation of a groundwater monitoring program; and implementation of institutional controls.

In September 1997, Theodore Losee and Alfa Laval, Inc. signed a Consent Decree with the United States in which they agreed to perform the remedy outlined in the ROD. The Consent Decree was entered by the Court on February 4, 1998.

The Final Design Report, which EPA approved in July 2000, established the design criteria and schedule for the remediation including the requirements for long-term groundwater monitoring once construction activities were completed.

Construction activities at the Site started in June 2001. The Remedial Action activities included: the excavation of soils in several trenches and the backfill of these areas with clean fill/topsoil and restoration of these areas; consolidation of soils from the trenches into the central disposal area; and construction of a NYCRR Part 360 cap in the central disposal area. The constructed cap is approximately 4.6 acres. The analytical results from post-excavation soils samples collected from the excavated areas indicated that the remaining soils in excavated areas met the cleanup levels required by the ROD. This work was conducted from June thru October 29, 2001. Seeding of the cap area was completed in November 2001.

The total amount of contaminated waste material excavated and placed under the cap was 13,864 cubic yards (CY). The total volume of contaminated waste material was significantly greater than the volume estimated in the ROD, which was 6,550 CY. This was mainly due to a greater than expected volume of contamination encountered during excavation.

On October 12, 2001, EPA and the State conducted a final inspection. The inspection found that the work was completed in accordance with the ROD and the Consent Decree including the construction of the cap and installation of the fence. Information on the site construction is contained in the Remedial Action Report dated September 2002.

The long-term groundwater monitoring program began once the construction of the cap was completed. The groundwater monitoring program includes 15 on-site monitoring wells completed both in shallow and deeper portions of the on-site aquifer. In addition, ten off-site residential drinking water supply wells in the immediate vicinity of the site were included in the program.

The continuing operation and maintenance (O&M) activities at the site are being performed by Lawler Matusky & Skelly Consultants Inc. under contract to Alfa-Laval. EPA and NYSDEC approved an O&M Plan for the site entitled “Long-Term Monitoring and O&M Plan” dated January 2002. O&M activities include: groundwater monitoring of ten nearby residential supply wells and 15 on-site monitoring wells as well as gas monitoring and routine inspections to insure that the capped area is functioning as designed.

Groundwater samples are analyzed by a New York State Department of Health approved laboratory and all of the data are reviewed by an independent data validation service. The ten residential wells that are in the long-term monitoring program were selected for inclusion in the sampling program based on anticipated groundwater flow directions, proximity to the site, and from which aquifer the well was drawing water. The groundwater results for the residential wells indicate that the site does not impact the quality of off-site groundwater in either the shallow overburden or deeper bedrock aquifer found in the vicinity of the site.

The objectives of the monitoring of the on-site monitoring wells are to evaluate and track groundwater flow patterns and chemistry and observe the natural attenuation of groundwater contamination.

On-site groundwater was found to be only minimally impacted by past site activities. Comparing the results to the applicable NYSDEC Class GA groundwater standards, only a few VOCs were detected above the standards during the past rounds of sampling. A total of ten individual metals were found above applicable standards. Of these, seven are believed to be site-related contaminants: arsenic, copper, antimony, thallium, chromium, nickel and lead. The concentrations of iron, manganese, and sodium which are above standards appear to be due to naturally elevated levels of these constituents in the bedrock aquifer.

Institutional controls consisting of an easement and deed restriction limiting access to the Site and preventing use of contaminated water as a drinking water source were filed with the Dutchess County Register of Deeds in September of 2004.

Public participation activities for this Site have been satisfied as required by CERCLA Section 113(k), 42 U.S.C. 9613(k), and CERCLA Section 117,42 U.S.C. 9617. The RI/FS and the ROD were subject to a public review process. All documents and information which EPA relied on or considered in reaching the conclusion that this site can be deleted from the NPL are available for the public to review at the information repositories.

The remedy implemented at this site results in contaminants remaining at the site above levels that allow for unlimited use and unrestricted exposure. In accordance with CERCLA Section 121(c), EPA and/or NYSDEC will conduct a review of this remedy no less often than every five years. The first Five-Year Review is expected to be completed before June 2006 which is five years from the start of the on-site construction.

One of the three criteria for Site deletion specifies that a site may be deleted from the NPL if “responsible parties or other parties have implemented all appropriate response actions required”. 40 CFR 300.425(e)(1) (ii). EPA, with concurrence of the State of New York, through the NYSDEC, believes that this criteria for deletion has been met and therefore, EPA is deleting this Site from the NPL.

List of Subjects in 40 CFR Part 300

Environmental protection, Air pollution control, Chemicals, Hazardous waste, Hazardous substances, Intergovernmental relations, Penalties, Reporting and recordkeeping requirements, Superfund, Water pollution control, Water supply.

Dated: June 6, 2005.
George Pavlou,
Acting Regional Administrator, U.S. EPA Region II.

For the reasons set out in the preamble Part 300 Title 40 of Chapter I of the Code of Federal Regulations is amended as follows:

PART 300—[AMENDED]

The authority citation for Part 300 continues to read as follows:

Authority: 33 U.S.C. 1321(c)(2); 42 U.S.C. 9601-9657; E.O. 12777, 56 FR 54757, 3 CFR, 1991 Comp., p. 351; E.O.12580, 52 FR 2923, 3 CFR, 1987 Comp., p. 193.

Appendix B—[Amended]

2. Table 1 of Appendix B to Part 300 is amended under New York (NY) by removing the site name “Jones Sanitation” and the corresponding city designation “Hyde Park”

[FR Doc. 05-13346 Filed 7-6-05; 8:45 am]

BILLING CODE 6560-50-P